DEPARTMENT OF HOMELAND SECURITY

Federal Emergency Management Agency

[Docket ID: FEMA-2021-0021]

Notice of Public Meeting on the National Flood Insurance Program's Community Rating System

AGENCY: Federal Emergency Management Agency, Department of Homeland Security (DHS).

ACTION: Announcement of open public meetings.

SUMMARY: FEMA will hold three public meetings remotely via web conference to solicit public feedback about the National Flood Insurance Program's (NFIP) Community Rating System (CRS) program. FEMA is issuing this public meeting notice to inform the public that it is seeking input on the NFIP's CRS program for the agency to consider ways to modify, streamline, and/or innovate to improve the program. These efforts aim to help FEMA ensure that the CRS program includes necessary, properly tailored, and up-to-date requirements that effectively achieve the goals of (1) reducing and avoiding flood damage to insurable property, (2) strengthening and supporting the insurance aspects of the NFIP, and (3) encouraging a comprehensive approach to floodplain management.

DATES: Written comments in response to these public meetings may be submitted until 11:59 p.m. Eastern Time (ET) on September 22, 2021. Late-filed comments will be considered to the extent practicable.

FEMA will hold meetings on:

Tuesday, September 7, 2021 from 11:00 a.m. until 1:00 p.m. ET;

Wednesday, September 8, 2021 from 1:00 p.m. until 3:00 p.m. ET; and

Thursday, September 9, 2021 from 2:00 p.m. until 4:00 p.m. ET.

Depending on the number of speakers, the meetings may end before the time indicated, following the last call for comments.

ADDRESSES: The public meetings will be held via web conference. Members of the public may register to attend the meetings online at the following link: https://cgstrategy.zoom.us/webinar/register/6716294728533/WN_BTf89PgaQhOZL-TonhxNog.

Reasonable accommodations are available for people with disabilities. To request a reasonable accommodation, contact the person listed in the FOR FURTHER INFORMATION CONTACT section below as soon as possible. Last minute requests will be accepted but may not be possible to fulfill. Written comments related to these public meetings must be submitted through the Federal eRulemaking Portal at http://www.regulations.gov/. Search for FEMA-2021-0021 and follow the instructions for submitting comments. All written comments received, including any personal information provided, may be posted without alteration at https://www.regulations.gov. All comments on the request for information made during the meetings will be posted to https://www.regulations.gov, Docket ID FEMA-2021-0021.

FOR FURTHER INFORMATION CONTACT: Rachel Sears, Supervisory Emergency Management Specialist, Federal Insurance and Mitigation Administration, Federal Emergency Management Agency, FEMA-CRS-Next@fema.dhs.gov, 202-212-3800.

SUPPLEMENTARY INFORMATION: The NFIP's CRS program is a voluntary incentive program that recognizes and encourages community floodplain management practices that exceed the minimum requirements of the NFIP for floodplain management. As FEMA undertakes a series of initiatives that will transform the NFIP, the agency is evaluating the CRS program and its potential to support FEMA, State, local, Tribal, and territorial community goals and needs.

FEMA is committed to obtaining public input to drive and focus FEMA's review of the CRS program. Because Federal regulations and policies have broad impacts on society in general, members of the public are likely to have useful information, data, and perspectives on the benefits and burdens of FEMA's existing programs, regulations, information collections, and policies. Accordingly, FEMA is seeking specific public feedback to facilitate the CRS program review and improvement effort in the context of equity for all, include those in underserved communities. With the increasing risk of flooding and flood damage, in part because of climate change, it is essential that FEMA reevaluate programs to reduce unnecessary barriers to participation and effectiveness, to serve all communities, to increase equity, and to promote preparedness.

As part of FEMA's review of the CRS program, we published a RFI on Monday, August 23, 2021at 86 FR 47128. FEMA is seeking input through this RFI on ways the agency can improve the CRS program: (1) To better align the CRS program with the improved understanding of flood risk and flood risk approaches that have developed since the program's inception; (2) to better incentivize communities and policyholders to become more resilient and to not only manage, but to lower their vulnerability to flood risk; and (3) to support the sound financial framework of the NFIP.

While the CRS program today has evolved, the overall approach and framework of the program has been the same since the start of the program. As FEMA undertakes many initiatives that will transform the NFIP, the agency is also evaluating the CRS program and its potential to support FEMA, State government, Tribal government, and community goals and needs. While the agency has made incremental changes since the CRS program's implementation, the agency is seeking input to further improve the program through additional programmatic changes. With the continuous learning around flood, flood risk management, and flood risk reduction techniques, FEMA now has more information about and understanding of multi-frequency analysis, pluvial flooding, climate change, and the extent of flood risk outside of the SFHA. FEMA seeks to make larger improvements within our programs based on these developments and is now taking a holistic look at the CRS program to determine how the program can best meet FEMA and stakeholder needs.

The purpose of these public meetings and the RFI is to seek feedback on the CRS program. FEMA is holding public meetings to ensure that all interested parties have sufficient opportunity to provide comments on the CRS program during these meetings and the RFI to identify those aspects of the CRS program that may benefit from modification, streamlining, or expansion in light of FEMA's improved understanding of flood risk and flood risk reduction approaches gained since the initiation of the CRS program. FEMA will carefully consider all relevant comments received during the meetings and during the RFI comment period closing on September 22, 2021. All comments or remarks provided on the request for information during the meetings will be recorded and posted to the rulemaking docket on https://www.regulations.gov.

Deanne Criswell,
Administrator, Federal Emergency Management Agency.

[FR Doc. 2021-18456 Filed 8-26-21; 8:45 am]

BILLING CODE 9111-47-P